CONSUMER PRODUCT SAFETY COMMISSION

[Docket No. CPSC-2010-0046]

Agency Information Collection Activities; Proposed Collection; Comment Request; Consumer Focus Groups

AGENCY: Consumer Product Safety Commission.

ACTION: Notice.

SUMMARY: The Consumer Product Safety Commission (“CPSC” or “Commission”) is announcing an opportunity for public comment on the proposed collection of certain information by the agency. Under the Paperwork Reduction Act of 1995 (“the PRA”), Federal agencies are required to publish notice in the Federal Register concerning each proposed collection of information, including each proposed extension of an existing collection of information, and to allow 60 days for public comment in response to the notice. This notice solicits comments on a proposed collection of information from persons who may participate in Consumer Focus Groups.

DATES: Submit written or electronic comments on the collection of information by August 6, 2010.

ADDRESSES: You may submit comments, identified by Docket No. CPSC-2010-0046 by any of the following methods:

Electronic Submissions

Submit electronic comments in the following way:

Federal eRulemaking Portal: http://www.regulations.gov. Follow the instructions for submitting comments. To ensure timely processing of comments, the Commission is no longer accepting comments submitted by electronic mail (e-mail) except through http://www.regulations.gov.

Written Submissions

Submit written submissions in the following way:

Mail/Hand delivery/Courier (for paper, disk, or CD-ROM submissions), preferably in five copies, to: Office of the Secretary, Consumer Product Safety Commission, Room 502, 4330 East West Highway, Bethesda, MD 20814; telephone (301) 504-7923.

Instructions: All submissions received must include the agency name and docket number for this notice. All comments received may be posted without change, including any personal identifiers, contact information, or other personal information provided, to http://www.regulations.gov. Do not submit confidential business information, trade secret information, or other sensitive or protected information electronically. Such information should be submitted in writing.

Docket: For access to the docket to read background documents or comments received, go to http://www.regulations.gov.

FOR FURTHER INFORMATION CONTACT: Linda Glatz, Division of Policy and Planning, Office of Information Technology, Consumer Product Safety Commission, 4330 East West Highway, Bethesda, MD 20814, 301-504-7671, lglatz@cpsc.gov.

SUPPLEMENTARY INFORMATION: Under the PRA (44 U.S.C. 3501-3520), Federal agencies must obtain approval from the Office of Management and Budget (“OMB”) for each collection of information they conduct or sponsor. “Collection of information” is defined in 44 U.S.C. 3502(3) and 5 CFR 1320.3(c) and includes agency requests or requirements that members of the public submit reports, keep records, or provide information to a third party. Section 3506(c)(2)(A) of the PRA (44 U.S.C. 3506(c)(2)(A)) requires Federal agencies to provide a 60-day notice in the Federal Register concerning each proposed collection of information, including each proposed extension/reinstatement of an existing collection of information, before submitting the collection to OMB for approval. To comply with this requirement, the CPSC is publishing notice of the proposed collection of information set forth in this document.

With respect to the following collection of information, the CPSC invites comments on these topics: (1) Whether the proposed collection of information is necessary for the proper performance of CPSC's functions, including whether the information will have practical utility; (2) the accuracy of CPSC's estimate of the burden of the proposed collection of information, including the validity of the methodology and assumptions used; (3) ways to enhance the quality, utility, and clarity of the information to be collected; and (4) ways to minimize the burden of the collection of information on respondents, including through the use of automated collection techniques, when appropriate, and other forms of information technology.

Title: Consumer Focus Groups (OMB Control Number 3041-0136-Extension).

Description: The Commission is authorized, under section 5(a) of the Consumer Product Safety Act (“CPSA”), 15 U.S.C. 2054(a), to collect information, conduct research, perform studies and investigations relating to the causes and prevention of deaths, accidents, injuries, illnesses, other health impairments, and economic losses associated with consumer products. Section 5(b) of the CPSA, 15 U.S.C. 2054(b), further provides that the Commission may conduct research, studies and investigations on the safety of consumer products or test consumer products and develop product safety test methods and testing devices.

To better identify and evaluate the risks of product-related incidents, the Commission staff invites and obtains direct feedback from consumers on issues related to product safety such as recall effectiveness, product use, and perceptions regarding safety issues. Through participation in certain focus groups, consumers answer questions and provide information regarding their actual experiences, opinions and/or perceptions on the use or pattern of use of a specific product or type of product, including recalled products. The information collected from the Consumer Focus Groups will help inform the Commission's evaluation of consumer products and product use by providing insight and information into consumer perceptions and usage patterns. Such information also may assist the Commission's efforts to support voluntary standards activities and help identify areas regarding consumer safety issues that need additional research. In addition, the information will assist with forming new ways of providing user friendly data to consumers through CPSC's Web site and information and education campaigns.

If this information is not collected, the Commission may not have available certain useful information regarding consumer experiences, opinions, and perceptions related to specific product use in its ongoing efforts to improve the safety of consumer products and safety information on behalf of consumers. Currently, the Commission staff relies on its expert judgment about consumer behavior, perceptions, and similar information related to consumer products and product use. Not conducting the information collection activity, therefore, could reduce the quality of assessments currently completed by Commission staff. The information collection activity would likely provide the Commission staff with information that would focus the staff's assessments, or could provide insight into consumer perceptions and usage patterns that could not be anticipated by Commission staff.

We estimate the burden of this collection of information as follows. We anticipate that, over the three year period of this request, we will conduct 40 focus groups and 20 one-on-one interviews for a variety of projects. The total hours of burden to the respondents are (4 hours per person × 400 participants) + (30 minutes per person × 20 participants) = 1610 hours (537 hours budgeted per year for three years). The total annual cost is: 1610 × $29.40 (U.S. Department of Labor, Employer costs for Employee Compensation, September 2009) = $47,334 ($15,778 budgeted per year for three years).

The estimated annual cost of the information collection requirements to the Federal government is approximately $140,000 per year for three years. This sum includes nine staff months ($127,573), travel costs expended for meeting with contractors ($40,000, estimated at $1,000 per focus group), and contracts for conducting focus groups and/or one-on-one interviews ($250,000, estimated at $5,000 per focus group and $2,500 per one-on-one interview).

Dated: June 1, 2010.
Todd A. Stevenson,
Secretary, Consumer Product Safety Commission.

[FR Doc. 2010-13513 Filed 6-4-10; 8:45 am]

BILLING CODE 6355-01-P